DEPARTMENT OF ENERGY

Federal Energy Regulatory Commission

[Docket No. CP03-349-000]

Southern Star Central Gas Pipeline, Inc.; Notice of Application

September 3, 2003.

Take notice that on August 26, 2003, Southern Star Central Gas Pipeline, Inc. (Southern Star), 3800 Frederica Street, Owensboro, Kentucky 42301, filed in Docket No. CP03-349-000, an application pursuant to Section 7(b) of the Natural Gas Act (NGA) as amended, and part 157 of the regulations of the Federal Energy Regulatory Commission (Commission), for permission and approval to abandon compression facilities in Johnson County, Missouri, all as more set forth in the application which is on file with the Commission and open to public inspection

Southern Star proposes to abandon five 170 horsepower compressor units and appurtenant facilities, auxiliary equipment at the Knob Noster compressor station in Johnson County. It is stated that the compressor station was constructed in 1949 and utilized to compress gas into the Carrollton/Marshall 8-inch system. It is stated that the facilities are now obsolete due to piping constraints and that the compression is insufficient reliably meet volume demand during peak periods. It is explained that the facilities are no longer needed because the newer, more efficient 800 horsepower unit at the Concordia compressor station now serves the Carrollton/Marshall system and provides adequate compression during peak periods. Southern Star proposes to abandon the facilities by reclaim with the exception of an equipment storage warehouse which would continue to be used. It is asserted that Southern Star would continue to own and operate the property that the compressor station proposed for abandonment stands on.

Any questions concerning this application may be directed to David N. Roberts, Manager, Regulatory Affairs, at (270)852-4654.

This filing is available for review at the Commission or may be viewed on the Commission's Web site at http://www.ferc.gov, using the eLibrary (FERRIS) link. Enter the docket number excluding the last three digits in the docket number filed to access the document. For assistance, please contact FERC Online Support at FERC OnlineSupport@ferc.gov or call toll-free at (866) 206-3676, or, for TTY, contact (202) 502-8659.

There are two ways to become involved in the Commission's review of this project. First, any person wishing to obtain legal status by becoming a party to the proceedings for this project should, on or before the comment date file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. Comments, protests and interventions may be filed electronically via the Internet in lieu of paper. See 18 CFR 385.2001(a)(1)(iii) and the instructions on the Commission's Web site under the “e-Filing” link. The Commission strongly encourages intervenors to file electronically.

Comment Date: September 23, 2003.

Magalie R. Salas,
Secretary.

[FR Doc. 03-22865 Filed 9-8-03; 8:45 am]

BILLING CODE 6717-01-P